DEPARTMENT OF DEFENSE

Department of the Army

Notice of Availability of the Record of Decision for the Fort Bliss, Texas and New Mexico, Mission Master Plan Final Supplemental Programmatic Environmental Impact Statement

AGENCY: Department of the Army, DOD.

ACTION: Notice.

SUMMARY: The Department of the Army announces the availability of the Record of Decision (ROD) for the Final Supplemental Programmatic Environmental Impact Statement (SEIS) identifying the potential environmental effects of changing land and airspace use at Fort bliss to support evolving changes in missions and units and support Army Transformation, Integrated Global Presence and Basing Strategy (IGPBS), Base Realignment and Closure (BRAC), the Army Campaign Plan, and other Army initiatives.

The Final SEIS supplements the Fort Bliss, Texas and New Mexico, Mission Master Plan Programmatic Environmental Impact Statement (PEIS), for which a Record of Decision was signed in 2001.

DATES: The waiting period for the Final SEIS ended April 23, 2007.

FOR FURTHER INFORMATION CONTACT: Ms. Jean Offutt, Public Affairs Officer, IMSW-BLS-PA; Fort Bliss, TX 79916-6812; telephone: (915) 568-4505; fax: (915) 568-2995; e-mail: jean.offutt@bliss.army.mil.

SUPPLEMENTARY INFORMATION: The Proposed Action (Alternative 4) is selected in this ROD. The Proposed Action changes land use in the Main Cantonment Area to support units assigned to Fort Bliss under BRAC, and in the Fort Bliss Training Complex to support construction of live-fire ranges and designation of off-road maneuver space needed to train those solders to doctrinal standards. This alternative opens to heavy off-road vehicle maneuver 352,000 acres in the Tularosa Basin portion of McGregor Range, for a total off-road vehicle maneuver space of 687,000 acres, and changes land use in the Main Cantonment to accommodate increases in military personnel. Selection of this alternative also accommodates units and missions in addition to the BRAC package, and maintains flexibility to meet future requirements. Those portions of McGregor Range outside the Tularosa Basin, specifically Otero Mesa and the Sacramento Mountain foothills, will not experience changes in land use.

The final SEIS analyzed impacts from the No Action Alternative and four action alternatives in 14 resource areas; land use, Main Cantonment Area infrastructure, airspace use and management, earth resources, air quality, water resources, biological resources, cultural resources, noise, safety, hazardous materials and items of special concern, socioeconomics, and environmental justice. The affected environment included the Fort Bliss Main Cantonment Area, the Fort Bliss Training Complex, and adjacent off-post areas that may be affected by the proposed changes on Fort Bliss. The region of influence (ROI) varies among resource topics but generally consists of a three-county area comprised of El Paso County in Texas and Doña Ana and Otero Counties in New Mexico.

From a land use perspective, the No Action Alternative would be the environmentally preferable alternative. However, it would not meet the Army's need to provide training to doctrinal standards to the units stationed at Fort bliss. After the No Action Alternative, Alternative 1 is environmentally preferable in comparison to the other action alternatives because it would limit the effects of off-road vehicle maneuver training on McGregor Range to a smaller area than the other three alternatives. It would also avoid impacts to grazing in the north Tularosa Basin portion of McGregor Range, as well as impacts to grasslands in the southeast training areas.

Copies of the ROD are available at the following libraries: In el Paso, the Richard Burges Regional Library, 9600 Dyer; the Irving Schwartz Branch Library, 1865 Dean Martin; the Clardy Fox Branch Library, 5515 Robert Alva; and the Doris van Doren Regional Branch Library, 551 Redd Branch Road. In Las Cruces, NM, the New Mexico State University Zuhl Library at 2999 McFie Circle; and in Alamogordo, NM at the Alamogordo Public Library, 920 Oregon Avenue. The document can also be reviewed at https://www.bliss.army.mil.

John A. Macdonald,
Brigadier General, U.S. Army, Deputy Commanding General, Installation Management Command.

[FR Doc. 07-2263 Filed 5-7-07; 8:45am]

BILLING CODE 3710-08-M